SOCIAL SECURITY ADMINISTRATION

Statement of Organization, Functions and Delegations of Authority

This statement amends Part T of the Statement of Organization, Functions and Delegations of Authority that covers the Social Security Administration (SSA). Chapter TA covers the Deputy Commissioner for Disability and Income Security Programs. Notice is hereby given that Chapter TA, which covers the Office of the Deputy Commissioner, Disability and Income Security Programs, is being amended to reflect the establishment of the Information Technology Support Staff as a separate line organization.

Chapter TA

Office of Disability and Income Security Programs

Section TA.10 The Office of the Deputy Commissioner, Disability and Income Security Programs—(Organization):

The Office of the Deputy Commissioner, Disability and Income Security Programs under the leadership of the Deputy Commissioner, Disability and Income Security Programs includes:

Establish:

K. The Information Technology Support Staff ( TAX).

Section TA.20 The Office of the Deputy Commissioner, Disability and Income Security Programs—(Functions):

Delete the last part of sentence #3 in paragraph C: “* * * and the technology that supports them.”

Delete the last two sentences from paragraph C: “Provides user support to all its subordinate components. Directs all systems activities supporting the Agency's electronic programmatic instructional system.”

Add:

K. The Information Technology Support Staff (TAX) provides expert advice and support to the Deputy Commissioner and Assistant Deputy Commissioner on the technology that supports Agency-level projects and initiatives that impact the Agency's policymaking processes. It provides user support to all its ODISP components. It directs all systems activities supporting the Agency's electronic programmatic instructional system.

Establish:

Subchapter (TAX)

Information Technology Support Staff

Section (TAX).00 The Information Technology Support Staff—(Mission):

The Information Technology Support Staff provides expert advice and support to the Deputy Commissioner and Assistant Deputy Commissioner on the technology that supports Agency-level projects and initiatives that impact the Agency's policymaking processes. It provides user support to all ODISP components. It directs all systems activities supporting the Agency's electronic programmatic instructional system.

Section (TAX).10 The Information Technology Support Staff—(Organization):

The Information Technology Support Staff does not have a substructure.

Section (TAX).20 The Information Technology Support Staff—(Functions):

1. Provides expert advice and support to the Deputy Commissioner and Assistant Deputy Commissioner on Agency-level projects and initiatives that impact the Agency's policymaking processes and the technology that supports them.

2. Represents ODISP on Agency-level steering and planning committees that develop and prioritize technology initiatives and/or funding that impact the Agency's programmatic policy development process.

3. Assesses the programmatic policy development processes to identify and recommend technology improvements and enhancements.

4. Develops, recommends, negotiates, implements, integrates and then supports broad automated systems strategies for ODISP components that take into account current and emerging technologies, Agency systems policies and standards and their impact on the ODISP environment.

5. Provides user and infrastructure support to all ODISP components, managing the desktop and computer room environments. Manages software and hardware inventories and oversees ODISP-wide rollouts and migrations. Provides application software training as needed.

6. Directs the preparation and management of ODISP's ITS budget, including development of procurement plans, cost data and analysis and justification of systems needs. Represents ODISP in negotiations with the Office of Systems on systems requirements, priority designations, delivery schedules and equipment arrival dates. Manages the identification, procurement and implementation of all IT items for ODISP components.

7. Provides expert advice and support to the Deputy Commissioner and ODISP Associate Commissioners on systems security policies, initiatives, best practices and implementation procedures. Performs data and system security audits, assessments and risk assessments on existing and proposed ODISP systems as required. Represents ODISP on Agency-level IT security workgroups and committees.

Dated: January 30, 2004.
Jo Anne B. Barnhart,
Commissioner of Social Security.

[FR Doc. 04-3003 Filed 2-10-04; 8:45 am]

BILLING CODE 4191-02-U